DEPARTMENT OF TRANSPORTATION

Federal Motor Carrier Safety Administration

49 CFR Parts 383 and 384

[Docket No. FMCSA-2025-0111]

RIN 2126-AC85

Removal of Self-Reporting Requirement

AGENCY: Federal Motor Carrier Safety Administration (FMCSA), Department of Transportation (DOT).

ACTION: Notice of proposed rulemaking (NPRM).

SUMMARY: FMCSA proposes to revise its regulations requiring commercial driver's license (CDL) holders to self-report motor vehicle violations to their State of domicile. With the implementation of the exclusive electronic exchange of violations between State drivers licensing agencies (SDLAs) in 2024, self-reporting is no longer necessary. This action supports the Administration's deregulatory efforts.

DATES: Comments must be received on or before July 29, 2025.

ADDRESSES: You may submit comments identified by Docket Number FMCSA-2025-0111 using any of the following methods:

• Federal eRulemaking Portal: Go to https://www.regulations.gov/docket/FMCSA-2025-0111/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Mr. Jeffrey L. Secrist, Chief, Registration Division, DOT, FMCSA, 1200 New Jersey Avenue SE, Washington, DC 20590; (202) 385-2367; jeff.secrist@dot.gov. If you have questions on viewing or submitting material to the docket, call Dockets Operations at (202) 366-9826.

SUPPLEMENTARY INFORMATION: FMCSA organizes this NPRM as follows:

I. Public Participation and Request for Comments

A. Submitting Comments

B. Viewing Comments and Documents

C. Privacy

II. Abbreviations

III. Legal Basis

IV. Background

V. Discussion of Proposed Rulemaking

VI. International Impacts

VII. Section-by-Section Analysis

VIII. Regulatory Analyses

A. E.O. 12866 (Regulatory Planning and Review), E.O. 13563 (Improving Regulation and Regulatory Review), and DOT Regulatory Policies and Procedures

B. E.O. 14192 (Unleashing Prosperity Through Deregulation)

C. Advance Notice of Proposed Rulemaking

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

L. Rulemaking Summary

I. Public Participation and Request for Comments

A. Submitting Comments

If you submit a comment, please include the docket number for this NPRM (FMCSA-2025-0111), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0111/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2025-0111/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 5 United States Code (U.S.C.) 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

II. Abbreviations

ANPRM Advance notice of proposed rulemaking

CDL Commercial driver's license

CFR Code of Federal Regulations

CMV Commercial motor vehicle

CMVSA Commercial Motor Vehicle Safety Act of 1986

DOT Department of Transportation

EEE Exclusive Electronic Exchange

FHWA Federal Highway Administration

FMCSA Federal Motor Carrier Safety Administration

FMCSRs Federal Motor Carrier Safety Regulations

FR Federal Register

MAP-21 Moving Ahead for Progress in the 21st Century

MCSIA Motor Carrier Safety Improvement Act of 1999

NPRM Notice of proposed rulemaking

OMB Office of Management and Budget

PIA Privacy Impact Assessment

PTA Privacy Threshold Assessment

SDLA State driver licensing agency

UMRA Unfunded Mandates Reform Act of 1995

U.S.C. United States Code

III. Legal Basis

Congress enacted the Commercial Motor Vehicle Safety Act (CMVSA) of 1986 (Pub. L. 99-570, Title XII, 100 Stat. 3207-170, 49 U.S.C. chapter 313) to improve highway safety by ensuring that drivers of large trucks and buses are qualified to operate those vehicles and to remove unsafe and unqualified drivers from the highways. To achieve these goals, the CMVSA established the CDL program and required States to ensure that drivers convicted of certain serious traffic violations are prohibited from operating commercial motor vehicles (CMVs). Although State participation in the CDL program is voluntary, CMVSA created incentives by conditioning certain Federal highway and grant funding on States maintaining a certified CDL program (CMVSA secs. 12010, 12011, codified at 49 U.S.C. 31313, 31314).

One of the CMVSA's CDL program requirements was that States report CDL holders' out-of-State traffic convictions to their licensing States within 10 days of the conviction (CMVSA sec. 12009(a)(9) codified at 49 U.S.C. 31311). The CMVSA also established a requirement for CDL holders to report these same out-of-State traffic convictions to their licensing States within 30 days of the conviction (CMVSA sec. 12003(a)(1), codified at 49 U.S.C. 31303(a)). Congress authorized the Secretary to issue regulations to implement these provisions (CMVSA sec. 12018(a), codified at 49 U.S.C. 31317). The Federal Highway Administration (FHWA), FMCSA's predecessor, subsequently issued regulations, including 49 CFR 383.31(a), which implemented the requirement that CDL holders report out-of-State traffic convictions to their licensing States (52 FR 20574, June 1, 1987). FHWA did not issue regulations implementing the States' reporting requirement at that time.

On July 5, 1994, Congress recodified title 49 of the U.S.C. (Pub. L. 103-272, 108 Stat. 745 (the 1994 Recodification Act)). Among other things, the 1994 Recodification Act clarifies who had the obligation to report CDL holders' out-of-State violations: the State or the driver. The 1994 Recodification Act added language making it explicit that States must report an out-of-State CDL holder's traffic conviction to the licensing State within 10 days of the conviction (108 Stat. 1024, 49 U.S.C. 31311(a)(9)). However, Congress did not repeal the requirement that individual CDL holders report the same information within 30 days of conviction. The Motor Carrier Safety Improvement Act of 1999 (MCSIA) (Pub. L. 106-159, 113 Stat. 1748) amended numerous provisions of title 49 of the U.S.C. related to the licensing and sanctioning of CMV drivers required to hold a CDL and directed the Secretary to amend regulations to correct specific weaknesses in the CDL program. One such provision directed the Secretary to develop a uniform system for the State-to-State electronic transmission of out-of-State CDL holders' traffic conviction information. FMCSA subsequently issued regulations implementing MCSIA and other statutory requirements, including CMVSA section 12009(a)(9). Those regulations included § 384.209, which requires States to report out-of-State CDL holders' traffic convictions to their licensing States as a minimum requirement of maintaining a certified CDL program (67 FR 49742, July 31, 2002).

The FMCSA Administrator has been delegated authority under 49 CFR 1.87(e)(1) to carry out the CMVSA functions vested in the Secretary.

IV. Background

In 2011, as part of a previous regulatory review initiative, a commenter identified as appropriate for review the requirements of §§ 383.31(a) and 384.209, which provided for both individual CDL holders and States with certified CDL programs to report the same information about CDL holders' out-of-State convictions. FMCSA agreed with this suggestion. Although States were not required to participate in FMCSA's CDL certification program at the time, all 50 States and the District of Columbia maintained certified programs, due in part to the financial incentives described in the Legal Authorities section above. Additionally, States can be de-certified and lose their authority to issue CDLs. In practice, this meant that compliance with both §§ 383.31(a) and 384.209 would result in a reporting redundancy.

On August 2, 2012, FMCSA published an NPRM in the Federal Register (77 FR 46010), proposing to eliminate this redundant reporting practice by providing that, if a State in which the conviction occurs has a certified CDL program in substantial compliance with FMCSA's regulations, then an individual CDL holder convicted in that State would be considered to be in compliance with his/her out-of-State traffic conviction reporting obligations because the State where the conviction occurred would report the violation to the CDL holder's State of licensure. FMCSA finalized this rulemaking on April 26, 2013 (78 FR 24684). That final rule added current paragraph (d) to § 383.31 and added new § 384.409 to specify the means of notification to commercial leaner's permit and CDL holders when FMCSA determines that a State is not in substantial compliance, or when FMCSA issues a decertification order prohibiting a State from issuing CDLs.

The final rule went into effect on May 28, 2013. More recently, the Exclusive Electronic Exchange (EEE) federal mandate became effective, requiring that SDLAs implement a system for the exclusive, electronic exchange of driver history record information through the Commercial Driver's License Information System. This includes posting information about convictions, withdrawals, and disqualifications related to commercial drivers. The purpose of this federal mandate is to align FMCSA's regulations with existing statutory requirements set forth in the Moving Ahead for Progress in the 21st Century Act (MAP-21). States were required to achieve substantial compliance with this requirement by August 22, 2024.

V. Discussion of Proposed Rulemaking

FMCSA is proposing to remove the redundant requirement that a CDL holder notify their State of domicile when they are convicted of certain motor vehicle violations. States have been fulfilling this task exclusively using electronic reporting requirements since 2024. FMCSA has determined that it is not necessary to continue to have a regulatory back-up mechanism in place.

VI. International Impacts

Motor carriers and drivers are subject to the laws and regulations of the countries that they operate in, unless an international agreement states otherwise. Drivers and carriers should be aware of the regulatory differences between nations.

VII. Section-by-Section Analysis

This section-by-section analysis describes the proposed changes in numerical order.

This NPRM proposes changes to § 383.31, Notification of convictions for driver violations. It would delete current paragraph (a), which requires CDL holders who are convicted of certain motor vehicle violations to notify the SDLA in their State of domicile of the violation. As discussed above, this notification now happens at the State/SDLA level, therefore it is redundant to require the CDL holder to also make the notification. Current paragraph (b) would be redesignated as paragraph (a), but the last sentence would be deleted. Paragraph (c) would be redesignated as paragraph (b) and would be revised to refer only to employer notifications. Current paragraph (d) would be deleted, as it would no longer be necessary.

This NPRM also proposes a minor change to § 384.409, to remove a sentence referencing § 383.31(a).

VIII. Regulatory Analyses

A. Executive Order (E.O.) 12866 (Regulatory Planning and Review), E.O. 13563 (Improving Regulation and Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this NPRM is not a significant regulatory action under section 3(f) of E.O. 12866, as supplemented by E.O. 13563, and does not require an assessment of potential costs and benefits under section 6(a)(3) of that order. Accordingly, OMB has not reviewed it under that E.O.

FMCSA is proposing to remove the redundant requirement that a CDL holder notify their State of domicile when they are convicted of certain motor vehicle violations. States have been fulfilling this task exclusively using electronic reporting requirements since 2024. FMCSA has determined that it is not necessary to continue to have a regulatory back-up mechanism in place.

This proposed rule would not result in additional costs on regulated entities, but would result in cost savings for CDL holders, who would no longer be required to notify their SDLA of certain convictions. CDL holders currently submit this information to their State of domicile, and not to FMCSA. As such, FMCSA does not capture the information needed to quantify the reduction in reporting burden. FMCSA requests data or any other information that could assist the Agency in quantifying these costs savings.

This proposed rule would not impact safety because the reporting requirement is redundant, and the notification will continue to occur at the State/SDLA level.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ¹

¹ Executive Office of the President. Executive Order 14192 of January 31, 2025. Unleashing Prosperity Through Deregulation. 90 FR 9065-9067. Feb. 6, 2025.

Implementation guidance for E.O. 14192 issued by OMB (Memorandum M-25-20, March 26, 2025) defines two different types of E.O. 14192 actions: an E.O. 14192 deregulatory action, and an E.O. 14192 regulatory action.²

² Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero as drivers would no longer be required to report violations to their State of domicile, and therefore would be considered an E.O. 14192 deregulatory action upon issuance of a final rule. FMCSA is unable to quantify the cost savings that would result from this rulemaking.

C. Advance Notice of Proposed Rulemaking

Under 49 U.S.C. 31136(g), FMCSA is required to publish an advance notice of proposed rulemaking (ANPRM) or proceed with a negotiated rulemaking, if a proposed safety rule “under this part” ³ is likely to lead to the promulgation of a major rule.⁴ As this proposed rule is not likely to result in the promulgation of a major rule, the Agency is not required to issue an ANPRM or to proceed with a negotiated rulemaking.

³ Part B of Subtitle VI of Title 49, United States Code, i.e., 49 U.S.C. chapters 311-317.

⁴ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses. No regulatory flexibility analysis is required, however, if the head of an agency or an appropriate designee certifies that the rule will not have a significant economic impact on a substantial number of small entities.

⁵ Public Law 104-121, 110 Stat. 857, (Mar. 29, 1996).

This proposed rule would impact drivers. Drivers are not considered small entities because they do not meet the definition of a small entity in section 601 of the RFA. Specifically, drivers are considered neither a small business under section 601(3) of the RFA, nor are they considered a small organization under section 601(4) of the RFA. Therefore, this rulemaking would not impact a substantial number of small entities.

FMCSA has concluded and hereby certifies that this proposed rule will not have a significant economic impact on a substantial number of small entities; therefore, an analysis is not included. This proposed rulemaking would only remove unnecessary, duplicative regulatory requirements from individual CDL holders, who do not qualify as small businesses. Consequently, I certify that the proposed action would not have a significant economic impact on a substantial number of small entities.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this proposed rule would not result in such an expenditure, a written statement is not required.

G. Paperwork Reduction Act

This proposed rule contains no new information collection requirements under the Paperwork Reduction Act of 1995 (44 U.S.C. 3501-3520). FMCSA has an approved information collection, OMB Control No. 2126-0011 “Commercial Driver Licensing and Testing Standards,” which already accounts for the State transmission of violation data to a CDL holder's State of domicile, and does not include costs for driver notifications to their SDLAs of licensure. Information on this collection can be found at www.reginfo.gov.

H. E.O. 13132 (Federalism)

A rule has implications for federalism under section 1(a) of E.O. 13132 if it has “substantial direct effects on the States, on the relationship between the national government and the States, or on the distribution of power and responsibilities among the various levels of government.”

FMCSA has determined that this rule would not have substantial direct costs on or for States, nor would it limit the policymaking discretion of States. Nothing in this document preempts any State law or regulation. Therefore, this rule does not have sufficient federalism implications to warrant the preparation of a Federalism Impact Statement.

I. Privacy

The Consolidated Appropriations Act, 2005,⁶ requires the Agency to assess the privacy impact of a regulation that will affect the privacy of individuals. This NPRM would not require the collection of personally identifiable information (PII).

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a PIA for new or substantially changed technology that collects, maintains, or disseminates information in an identifiable form. No new or substantially changed technology would collect, maintain, or disseminate information as a result of this proposed rule. Accordingly, FMCSA has not conducted a PIA.

⁷ Public Law 107-347, sec. 208, 116 Stat. 2899, 2921 (Dec. 17, 2002).

In addition, the Agency will complete a Privacy Threshold Assessment (PTA) to evaluate the risks and effects the proposed rulemaking might have on collecting, storing, and sharing personally identifiable information. The PTA will be submitted to FMCSA's Privacy Officer for review and preliminary adjudication and to DOT's Privacy Officer for review and final adjudication.

J. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this proposed rule pursuant to the National Environmental Policy Act of 1969 (42 U.S.C. 4321 et seq.). The Agency believes this proposed rule, if finalized, would not have a reasonably foreseeable significant effect on the quality of the human environment. This action would likely fall under a published categorical exclusion and thus be excluded from further analysis and documentation in an environmental assessment or environmental impact statement under FMCSA Order 5610.1 (69 FR 9680), Appendix 2. Specifically, paragraphs (6)(t)(1) and (2), which cover regulations pertaining to ensuring that States comply with the CMVSA of 1986. The public is invited to comment on the impact of the proposed Agency action.

L. Rulemaking Summary

In accordance with 5 U.S.C. 553(b)(4), a summary of this proposed rule may be found at regulations.gov, under the docket number.

List of Subjects

49 CFR Part 383

Administrative practice and procedure, Alcohol abuse, Drug abuse, Drug testing, Highway safety, Motor carriers, Penalties, Safety, Transportation.

49 CFR Part 384

Administrative practice and procedure, Alcohol abuse, Drug abuse, Highway safety, Motor carriers.

Accordingly, FMCSA proposes to amend 49 CFR parts 383 and 384 to read as follows:

PART 383—COMMERCIAL DRIVER'S LICENSE STANDARDS; REQUIREMENTS AND PENALTIES

1. The authority citation for part 383 continues to read as follows:

Authority: 49 U.S.C. 521, 31136, 31301 et seq., and 31502; secs. 214 and 215 of Pub. L. 106-159, 113 Stat. 1748, 1766, 1767; sec. 1012(b) of Pub. L. 107-56, 115 Stat. 272, 297, sec. 4140 of Pub. L. 109-59, 119 Stat. 1144, 1746; sec. 32934 of Pub. L. 112-141, 126 Stat. 405, 830; sec. 23019 of Pub. L. 117-58, 135 Stat. 429, 777; and 49 CFR 1.87.

§ 383.31 Notification of convictions for driver violations.

2. Amend § 383.31 by:

a. Removing paragraph (a);

b. Redesignating paragraphs (b) and (c) as (a) and (b), respectively;

c. Removing paragraph (d); and

d. Revising newly redesignated paragraph (a) by removing the last sentence.

PART 384—STATE COMPLIANCE WITH COMMERCIAL DRIVER'S LICENSE PROGRAM

3. The authority citation for part 384 continues to read as follows:

Authority: 49 U.S.C. 31136, 31301, et seq., and 31502; secs. 103 and 215 of Pub. L. 106-159, 113 Stat. 1748, 1753, 1767; sec. 32934 of Pub. L. 112-141, 126 Stat. 405, 830; sec. 5524 of Pub. L. 114-94, 129 Stat. 1312, 1560; and 49 CFR 1.87.

§ 384.409 [Amended]

4. Amend § 384.409 by removing the second sentence.

Issued under authority delegated in 49 CFR 1.87.
Sue Lawless,
Assistant Administrator.

[FR Doc. 2025-09713 Filed 5-27-25; 4:15 pm]

BILLING CODE 4910-EX-P